DEPARTMENT OF HEALTH AND HUMAN SERVICES

National Institutes of Health

National Institute on Aging; Amended Notice of Meeting

Notice is hereby given of a change in the meeting of the National Institute on Aging Special Emphasis Panel, June 16, 2004, 6 p.m. to June 17, 2004, 5 p.m., Holiday Inn Chevy Chase, 5520 Wisconsin Avenue, Chevy Chase, MD 20815 which was published in the Federal Register on May 17, 2004, 69 FR 27934.

The meeting will now be held July 6-7, 2004 at the same time and location. The meeting is closed to the public.

Dated: May 21, 2004.
LaVerne Y. Stringfield,
Director, Office of Federal Advisory Committee Policy.

[FR Doc. 04-12080 Filed 5-27-04; 8:45 am]

BILLING CODE 4140-01-M